ENVIRONMENTAL PROTECTION AGENCY

40 CFR Parts 60, 61, and 63

[EPA-R06-OAR-2010-1054; FRL-12688-02-R6]

New Source Performance Standards and National Emission Standards for Hazardous Air Pollutants; Delegation of Authority to Louisiana

AGENCY: Environmental Protection Agency (EPA).

ACTION: Final rule.

SUMMARY: The Louisiana Department of Environmental Quality (LDEQ) has submitted updated regulations for receiving delegation and approval of its program for the implementation and enforcement of certain New Source Performance Standards (NSPS) and National Emission Standards for Hazardous Air Pollutants (NESHAP) for all sources (both part 70 and non-part 70 sources), as provided for under previously approved delegation mechanisms. The updated State regulations incorporate by reference certain NSPS and NESHAP promulgated by the Environmental Protection Agency (EPA) at parts 60, 61 and 63, as they existed through July 1, 2021. The EPA is providing notice that it is taking final action to approve the delegation of certain NSPS and NESHAP to LDEQ. The delegation of authority under this action does not apply to sources located in Indian country.

DATES: This rule is effective on January 20, 2026.

ADDRESSES: The EPA has established a docket for this action under Docket ID No. EPA-R06-OAR-2010-1054. All documents in the docket are listed on the https://www.regulations.gov website. Although listed in the index, some information is not publicly available, e.g., Confidential Business Information (CBI) or other information whose disclosure is restricted by statute. Certain other material, such as copyrighted material, is not placed on the internet. Publicly available docket materials are available electronically through https://www.regulations.gov.

FOR FURTHER INFORMATION CONTACT: Clovis Steib, EPA Region 6 Office, Infrastructure and Ozone Section (ARSI), telephone number: 214-665-7566, email address: steib.clovis@epa.gov. Please call or email the contact listed above if you need alternative access to material indexed but not provided in the docket.

SUPPLEMENTARY INFORMATION: Throughout this document “we,” “us,” and “our” means the EPA.

I. Background

The background for this action is discussed in detail in our June 23, 2025, proposal (90 FR 26482). In that document we proposed to approve updating the delegation of certain NSPS and NESHAP to LDEQ. The delegation will provide LDEQ with the primary responsibility to implement and enforce the delegated standards.

During the update of the aforementioned delegations, we identified the need to correct certain subparts that were mistakenly included and/or omitted in the Technical Support Document (TSD) submitted with the proposal for this action and filed in the docket. These corrections are the logical outgrowth from our finalization of the LDEQ's proposed delegations for NSPS and NESHAP. They are now reflected in the respective tables located in the amendatory language section of this action.

II. Response to Comment

EPA received an anonymous public comment. The comment states that administrative practice is required and necessary to achieve goals. We thank the commenter for the comment and note administrative practices were followed for this action. This action finalizes updates to LDEQ's current NSPS and NESHAP delegations, following a proposed action and a public comment period. As such, we are finalizing the NSPS and NESHAP delegations to LDEQ as proposed.

III. Final Action

The EPA is taking final action to approve updates to the delegation of certain NSPS to LDEQ, and to update the Louisiana NESHAP delegation to provide the LDEQ with the authority to implement and enforce certain newly incorporated NESHAP promulgated by the EPA and amendments to existing standards currently delegated, as they existed through July 1, 2021.

IV. Statutory and Executive Order Reviews

Under the CAA, the Administrator has the authority to approve delegation requests that comply with the provisions of the Act and applicable Federal regulations. 42 U.S.C. 7411(c) and 7412(1). In reviewing delegation submissions, the EPA's role is to approve State choices, provided that they meet the criteria and objectives of the CAA and of the EPA's implementing regulations. Accordingly, this action merely approves the State's request as meeting Federal requirements and does not impose additional requirements beyond those imposed by State law. For that reason, this action:

A. Executive Order 12866: Regulatory Planning and Review and Executive Order 13563: Improving Regulation and Regulatory Review

This action is not a significant regulatory action as defined in Executive Order 12866 (58 FR 51735, October 4, 1993) and was therefore not submitted to the Office of Management and Budget (OMB) for review.

B. Executive Order 14192: Unleashing Prosperity Through Deregulation

This action is not an Executive Order 14192 regulatory action because this action is not significant under Executive Order 12866.

C. Paperwork Reduction Act (PRA)

This action does not impose an information collection burden under the PRA (44 U.S.C. 3501 et seq.) because it does not contain any information collection activities.

D. Regulatory Flexibility Act (RFA)

This action is certified to not have a significant economic impact on a substantial number of small entities under the RFA (5 U.S.C. 601 et seq.). This action approves the delegation of federal rules as requested by the state agency and will therefore have no net regulatory burden for all directly regulated small entities.

E. Unfunded Mandates Reform Act (UMRA)

This action does not contain an unfunded mandate as described in UMRA, 2 U.S.C. 1531-1538, and does not significantly or uniquely affect small governments. This action imposes no enforceable duty on any State, local, or tribal governments or the private sector.

F. Executive Order 13132: Federalism

This action does not have federalism implications as specified in Executive Order 13132 (64 FR 43255, August 10, 1999). It will not have substantial direct effects on the states, on the relationship between the national government and the states, or on the distribution of power and responsibilities among the various levels of government.

G. Executive Order 13175: Consultation and Coordination With Indian Tribal Governments

This final approval to update the delegation of certain NSPS to LDEQ and the approval of LDEQ's request to update their NESHAP delegation will not apply in areas of Indian Country, and therefore has no tribal implications as specified in Executive Order 13175 (65 FR 67249, November 9, 2000). This action will neither impose substantial direct compliance costs on federally recognized tribal governments, nor preempt tribal law. This action will not impose substantial direct compliance costs on federally recognized tribal governments because no actions will be required of tribal governments. This action will also not preempt tribal law as no Louisiana tribe implements a regulatory program under the CAA and thus does not have applicable or related tribal laws.

H. Executive Order 13045: Protection of Children From Environmental Health Risks and Safety Risks

The EPA interprets Executive Order 13045 as applying only to regulatory actions considered significant under section 3(f)(1) of Executive Order 12866 and that concern environmental health or safety risks that EPA has reason to believe may disproportionately affect children, per the definition of “covered regulatory action” in section 2-202 of Executive Order 13045. This action is not subject to Executive Order 13045 because it approves a state action implementing a federal standard.

I. Executive Order 13211: Actions Concerning Regulations That Significantly Affect Energy Supply, Distribution or Use

This action is not subject to Executive Order 13211 (66 FR 28355, May 22, 2001), because it is not a significant regulatory action under Executive Order 12866.

J. National Technology Transfer and Advancement Act (NTTAA)

This rulemaking does not involve technical standards. This action is not subject to requirements of section 12(d) of the National Technology Transfer and Advancement Act of 1995 (15 U.S.C. 272 note) because application of those requirements would be inconsistent with the Clean Air Act.

K. Congressional Review Act (CRA)

This action is subject to the CRA, and the EPA will submit a rule report to each House of the Congress and to the Comptroller General of the United States. This action is not a “major rule” as defined by 5 U.S.C. 804(2).

Under section 307(b)(1) of the CAA, petitions for judicial review of this action must be filed in the United States Court of Appeals for the appropriate circuit by February 17, 2026. Filing a petition for reconsideration by the Administrator of this final rule does not affect the finality of this action for the purposes of judicial review nor does it extend the time within which a petition for judicial review may be filed and shall not postpone the effectiveness of such rule or action. This action may not be challenged later in proceedings to enforce its requirements. (See section 307(b)(2).)

List of Subjects

40 CFR Part 60

Environmental protection, Air pollution control, Administrative practice and procedure, Hazardous substances, Intergovernmental relations, Reporting and recordkeeping requirements.

40 CFR Part 61

Environmental protection, Air pollution control, Hazardous substances, Intergovernmental relations, Radioactive materials, Reporting and recordkeeping requirements, Uranium, Vinyl chloride.

40 CFR Part 63

Environmental protection, Air pollution control, Administrative practice and procedure, Business and industry, Carbon oxides, Hazardous substances, Intergovernmental relations, Nitrogen oxides, Ozone, Reporting and recordkeeping requirements, Sulfur oxides, Volatile organic compounds.

Authority: 42 U.S.C. 7401 et seq.

Dated: December 11, 2025.
James McDonald,
Director, Air and Radiation Division, Region 6.

For the reasons stated in the preamble, the Environmental Protection Agency amends 40 CFR parts 60, 61 and 63 as follows:

PART 60—STANDARDS OF PERFORMANCE FOR NEW STATIONARY SOURCES

1. The authority citation for part 60 continues to read as follows:

Authority: 42 U.S.C. 7401 et seq.

Subpart A—General Provisions

2. Section 60.4 is amended by revising paragraph (e)(2) to read as follows:

§ 60.4 Address.

* * * * *

(e) * * *

(2) Louisiana. The Louisiana Department of Environmental Quality has been delegated the following part 60 standards promulgated by EPA, as amended in the Federal Register through July 1, 2021. The (X) symbol is used to indicate each subpart that has been delegated.

Delegation Status for Part 60 Standards—State of Louisiana
[Excluding Indian Country]
Subpart | Source category | LDEQ
A | General Provisions | X
Cb | Emissions Guidelines and Compliance Times for Large Municipal Waste Combustors That are Constructed on or Before September 20, 1994 | X
Cc | Emission Guidelines and Compliance Times for Municipal Solid Waste Landfills | X
Cd | Emissions Guidelines and Compliance Times for Sulfuric Acid Production Units | X
Ce | Emission Guidelines and Compliance Times for Hospital/Medical/Infectious Waste Incinerators | X
Cf | Emission Guidelines and Compliance Times for Municipal Solid Waste Landfills | X
D | Fossil Fueled Steam Generators | X
Da | Electric Utility Steam Generating Units | X
Db | Industrial-Commercial-Institutional Steam Generating Units | X
Dc | Small Industrial-Commercial-Institutional Steam Generating Units | X
E | Incinerators | X
Ea | Municipal Waste Combustors for Which Construction is Commenced After December 20, 1989, and On or Before September 20, 1994 | X
Eb | Large Municipal Waste Combustors for Which Construction is Commenced After September 20, 1994 or for Which Modification or Reconstruction is Commenced After June 19, 1996 | X
Ec | Hospital/Medical/Infectious Waste Incinerators | X
F | Portland Cement Plants | X
G | Nitric Acid Plants | X
Ga | Nitric Acid Plants for Which Construction, Reconstruction, or Modification Commenced After October 14, 2011 | X
H | Sulfuric Acid Plants | X
I | Hot Mix Asphalt Facilities | X
J | Petroleum Refineries | X
Ja | Petroleum Refineries for Which Construction, Reconstruction, or Modification Commenced After May 14, 2007 | X
K | Storage Vessels for Petroleum Liquids for Which Construction, Reconstruction, or Modification Commenced After June 11, 1973, and Prior to May 19, 1978 | X
Ka | Storage Vessels for Petroleum Liquids for Which Construction, Reconstruction, or Modification Commenced After May 18, 1978, and Prior to July 23, 1984 | X
Kb | VOC Liquid Storage Vessels (Including Petroleum Liquid Storage Vessels) for Which Construction, Reconstruction, or Modification Commenced After July 23, 1984, and On or Before October 4, 2023 | X
Kc | VOC Liquid Storage Vessels (Including Petroleum Liquid Storage Vessels) for Which Construction, October 4, 2023 | No
L | Secondary Lead Smelters for Which Construction, Reconstruction, or Modification Commenced After June 11, 1973, and On or Before December 1, 2022 | X
La | Secondary Lead Smelters for Which Construction, Reconstruction, or Modification Commenced After December 1, 2022 | No
M | Secondary Brass and Bronze Production Plants | X
N | Primary Emissions from Basic Oxygen Process Furnaces for Which Construction Commenced After June 11, 1973 | X
Na | Secondary Emissions from Basic Oxygen Process Steelmaking Facilities for Which Construction is Commenced After January 20, 1983 | X
O | Sewage Treatment Plants | X
P | Primary Copper Smelters | X
Q | Primary Zinc Smelters | X
R | Primary Lead Smelters | X
S | Primary Aluminum Reduction Plants | X
T | Phosphate Fertilizer Industry: Wet Process Phosphoric Plants | X
U | Phosphate Fertilizer Industry: Superphosphoric Acid Plants | X
V | Phosphate Fertilizer Industry: Diammonium Phosphate Plants | X
W | Phosphate Fertilizer Industry: Triple Superphosphate Plants | X
X | Phosphate Fertilizer Industry: Granular Triple Superphosphate Storage Facilities | X
Y | Coal Preparation and Processing Plants | X
Z | Ferroalloy Production Facilities | X
AA | Steel Plants: Electric Arc Furnaces Constructed After October 21, 1974, and On or Before August 17, 1983 | X
AAa | Steel Plants: Electric Arc Furnaces & Argon-Oxygen Decarburization Vessels Constructed After August 17, 1983, and On or Before May 16, 2022 | X
AAb | Steel Plants: Electric Arc Furnaces & Argon-Oxygen Decarburization Vessels Constructed After May 16, 2022 | No
BB | Kraft Pulp Mills | X
BBa | Kraft Pulp Mill Affected Sources for Which Construction, Reconstruction, or Modification Commenced After May 23, 2013 | X
CC | Glass Manufacturing Plants | X
DD | Grain Elevators | X
EE | Surface Coating of Metal Furniture | X
GG | Stationary Gas Turbines | X
HH | Lime Manufacturing Plants | X
KK | Lead-Acid Battery Manufacturing Plants for Which Construction, Reconstruction, or Modification Commenced After January 14, 1980, and On or Before February 23, 2022 | X
KKa | Lead-Acid Battery Manufacturing Plants for Which Construction, Reconstruction, or Modification Commenced After February 23, 2022 | No
LL | Metallic Mineral Processing Plants | X
MM | Automobile & Light Duty Truck Surface Coating Operations for which Construction, Modification or Reconstruction Commenced After October 5, 1979, and On or Before May 18, 2022 | X
MMa | Automobile & Light Duty Truck Surface Coating Operations for which Construction, Modification or Reconstruction Commenced After May 18, 2022 | No
NN | Phosphate Manufacturing Plants | X
PP | Ammonium Sulfate Manufacture | X
QQ | Graphic Arts Industry: Publication Rotogravure Printing | X
RR | Pressure Sensitive Tape and Label Surface Coating Operations | X
SS | Industrial Surface Coating: Large Appliances | X
TT | Metal Coil Surface Coating | X
UU | Asphalt Processing and Asphalt Roofing Manufacture | X
VV | Equipment Leaks of VOC in the SOCMI Industry for Which Construction, Reconstruction, or Modification Commenced After January 5, 1981, and on or Before November 7, 2006 | X
VVa | Equipment Leaks of VOC in the SOCMI Industry for Which Construction, Reconstruction, or Modification Commenced After November 7, 2006, and on or Before April 25, 2023 | X
VVb | Equipment Leaks of VOC in the SOCMI Industry for Which Construction, Reconstruction, or Modification Commenced After April 25, 2023 | No
WW | Beverage Can Surface Coating Industry | X
XX | Bulk Gasoline Terminals That Commenced Construction, Modification, or Reconstruction After December 17, 1980, and On or Before June 10, 2022 | X
XXa | Bulk Gasoline Terminals That Commenced Construction, Modification, or Reconstruction After June 10, 2022 | No
AAA | New Residential Wood Heaters | No
BBB | Rubber Tire Manufacturing Industry | X
CCC | [Reserved] |
DDD | Volatile Organic Compound (VOC) Emissions from the Polymer Manufacturing Industry | X
EEE | [Reserved] |
FFF | Flexible Vinyl and Urethane Coating and Printing | X
GGG | Equipment Leaks of VOC in Petroleum Refineries for Which Construction, Reconstruction, or Modification Commenced After January 4, 1983, and On or Before November 7, 2006 | X
GGGa | Equipment Leaks of VOC in Petroleum Refineries for Which Construction, Reconstruction, or Modification Commenced After November 7, 2006 | X
HHH | Synthetic Fiber Production | X
III | VOC Emissions from the SOCMI Air Oxidation Unit Processes | X
IIIa | VOC Emissions from the SOCMI Air Oxidation Unit Processes for Which Construction, Reconstruction, or Modification Commenced After April 25, 2023 | No
JJJ | Petroleum Dry Cleaners | X
KKK | VOC Equipment Leaks From Onshore Natural Gas Processing Plants | X
LLL | Onshore Natural Gas Processing: SO2 Emissions | X
MMM | [Reserved] |
NNN | VOC Emissions from SOCMI Distillation Operations | X
NNNa | VOC Emissions from SOCMI Distillation Operations for Which Construction, Reconstruction, or Modification Commenced After April 25, 2023 | No
OOO | Nonmetallic Mineral Processing Plants | X
PPP | Wool Fiberglass Insulation Manufacturing Plants | X
QQQ | VOC Emissions From Petroleum Refinery Wastewater Systems | X
RRR | VOC Emissions from SOCMI Reactor Processes | X
RRRa | VOC Emissions from SOCMI Reactor Processes for Which Construction, Reconstruction, or Modification Commenced After April 25, 2023 | No
SSS | Magnetic Tape Coating Operations | X
TTT | Industrial Surface Coating: Plastic Parts for Business Machines | X
TTTa | Industrial Surface Coating: Surface Coating of Plastic Parts for Business Machines for Which Construction, Reconstruction, or Modification Commenced After June 21, 2022 | No
UUU | Calciners and Dryers in Mineral Industries | X
VVV | Polymeric Coating of Supporting Substrates Facilities | X
WWW | Municipal Solid Waste Landfills | X
XXX | Municipal Solid Waste Landfills That Commenced Construction, Reconstruction, or Modification After July 17, 2014 | X
YYY-ZZZ | [Reserved] |
AAAA | Small Municipal Waste Combustion Units (Construction is Commenced After 8/30/99 or Modification/Reconstruction is Commenced After 6/06/2001) | X
BBBB | Emission Guidelines and Compliance Times for Small Municipal Waste Combustion Units Constructed on or Before August 30, 1999 | X
CCCC | Commercial & Industrial Solid Waste Incineration Units (Construction is Commenced After 11/30/1999 or Modification/Reconstruction is Commenced on or After 6/01/2001) | X
DDDD | Emission Guidelines & Compliance Times for Commercial & Industrial Solid Waste Incineration Units (Commenced Construction On or Before 11/30/1999) | X
EEEE | Other Solid Waste Incineration Units (Constructed after 12/09/2004 or Modification/Reconstruction is commenced on or after 06/16/2004) | X
FFFF | Emission Guidelines and Compliance Times for Other Solid Waste Incineration Units that Commenced Construction On or Before December 9, 2004 | X
GGG-HHH | [Reserved] |
IIII | Stationary Compression Ignition Internal Combustion Engines | X
JJJJ | Stationary Spark Ignition Internal Combustion Engines | X
KKKK | Stationary Combustion Turbines (Construction Commenced After 02/18/2005) | X
LLLL | New Sewage Sludge Incineration Units | X
MMMM | Emission Guidelines and Compliance Times for Existing Sewage Sludge Incineration Units | X
NNNN | [Reserved] |
OOOO | Crude Oil and Natural Gas Production, Transmission and Distribution | X
OOOOa | Crude Oil and Natural Gas Facilities for Which Construction, Modification or Reconstruction Commenced After September 18, 2015 and On or Before December 6, 2022 | X
OOOOb | Crude Oil and Natural Gas Facilities for Which Construction, Modification or Reconstruction Commenced After December 6, 2022 | No
OOOOc | Emissions Guidelines for Greenhouse Gas Emissions from Existing Crude Oil and Natural Gas Facilities | No
PPPP | [Reserved] |
QQQQ | New Residential Hydronic Heaters and Forced-Air Furnaces | X
TTTT | Greenhouse Gas Emissions for Electric Generating Units | X
TTTTa | Greenhouse Gas Emissions for Modified Coal-Fired Steam Electric Generating Units and New Construction and Reconstruction Stationary Combustion Turbine Electric Generating Units | No
UUUUa | [Reserved] |
UUUUb | Greenhouse Gas Emissions for Electric Utility Generating Units | No

* * * * *

PART 61—NATIONAL EMISSON STANDARDS FOR HAZARDOUS AIR POLLUTANTS

3. The authority citation for part 61 continues to read as follows:

Authority: 42 U.S.C. 7401 et seq.

Subpart A—General Provisions

4. Section 61.04 is amended by revising paragraph (c)(6)(ii) to read as follows:

§ 61.04 Address.

* * * * *

(c) * * *

(6) * * *

(ii) Louisiana. The Louisiana Department of Environmental Quality (LDEQ) has been delegated the following part 61 standards promulgated by EPA, as amended in the Federal Register through July 1, 2021. The (X) symbol is used to indicate each subpart that has been delegated.

Delegation Status for Part 61 Standards—State of Louisiana
[Excluding Indian Country]
Subpart | Source category | LDEQ
A | General Provisions | X
B | Radon Emissions From Underground Uranium Mines | No
C | Beryllium | X
D | Beryllium Rocket Motor Firing | X
E | Mercury | X
F | Vinyl Chloride | X
G | [Reserved] |
H | Emissions of Radionuclides Other Than Radon From Department of Energy Facilities | No
I | Radionuclide Emissions From Federal Facilities Other Than Nuclear Regulatory Commission Licensees and Not Covered by subpart H | No
J | Equipment Leaks (Fugitive Emission Sources) of Benzene | X
K | Radionuclide Emissions From Elemental Phosphorus Plants | No
L | Benzene Emissions From Coke By-Product Recovery Plants | X
M | Asbestos | No
N | Inorganic Arsenic Emissions From Glass Manufacturing Plants | X
O | Inorganic Arsenic Emissions From Primary Copper Smelters | X
P | Inorganic Arsenic Emissions From Arsenic Trioxide and Metallic Arsenic Production Facilities | X
Q | Radon Emissions From Department of Energy Facilities | No
R | Radon Emissions From Phosphogypsum Stacks | No
S | [Reserved] |
T | Radon Emissions From the Disposal of Uranium Mill Tailings | No
U | [Reserved] |
V | Equipment Leaks (Fugitives Emission Sources) | X
W | Radon Emissions From Operating Mill Tailings | No
X | [Reserved] |
Y | Benzene Emissions From Benzene Storage Vessels | X
Z-AA | [Reserved] |
BB | Benzene Emissions From Benzene Transfer Operations | X
CC-EE | [Reserved] |
FF | Benzene Waste Operations | X
Appendix A | Compliance Status Information | X
Appendix B | Test Methods | X
Appendix C | Quality Assurance Procedures | X
Appendix D | Methods for Estimating Radionuclide Emissions | No
Appendix E | Compliance Procedures Methods for Determining Compliance With subpart I | No

* * * * *

PART 63—NATIONAL EMISSION STANDARDS FOR HAZARDOUS AIR POLLUTANTS FOR SOURCE CATEGORIES

5. The authority citation for part 63 continues to read as follows:

Authority: 42 U.S.C. 7401 et seq.

Subpart E—Approval of State Programs and Delegation of Federal Authorities

6. Section 63.99 is amended by revising paragraph (a)(19)(i) to read as follows:

§ 63.99 Delegated Federal authorities.

(a) * * *

(19) * * *

(i) The following table lists the specific part 63 standards that have been delegated unchanged to the Louisiana Department of Environmental Quality for all sources. The “X” symbol is used to indicate each subpart that has been delegated. The delegations are subject to all of the conditions and limitations set forth in Federal law, regulations, policy, guidance, and determinations. Some authorities cannot be delegated and are retained by EPA. These include certain General Provisions authorities and specific parts of some standards. Any amendments made to these rules after July 1, 2021, are not delegated.

Delegation Status for Part 63 Standards—State of Louisiana
[Excluding Indian Country]
Subpart | Source category | LDEQ ¹
A | General Provisions | X
B | Requirements for Control Technology Determinations for Major Sources in Accordance with Clean Air Act Sections, 112(g) and 112(j) | No
C | List of Hazardous Air Pollutants, Petitions Process, Lesser Quantity Designations, Source Category List | No
D | Regulations Governing Compliance Extensions for Early Reductions of Hazardous Air Pollutants | No
E | Approval of State Programs and Delegation of Federal Authorities | No
F | Synthetic Organic Chemical Manufacturing Industry (SOCMI) | X
G | SOCMI for Process Vents, Storage Vessels, Transfer Operations and Wastewater | X
H | Equipment Leaks and Fenceline Monitoring for All Emission Sources | X
I | Certain Processes Subject to the Negotiated Regulation for Equipment Leaks | X
J | Polyvinyl Chloride and Copolymers Production | No
K | [Reserved] |
L | Coke Oven Batteries | X
M | Perchloroethylene Air Emission Standards for Dry Cleaning Facilities | X
N | Chromium Emissions from Hard and Decorative Chromium Electroplating and Chromium Anodizing Tanks | X
O | Ethylene Oxide Emissions Standards for Sterilization Facilities | X
P | [Reserved] |
Q | Industrial Process Cooling Towers | X
R | Gasoline Distribution Facilities (Bulk Gasoline Terminals and Pipeline Breakout Sessions) | X
S | Pulp and Paper Industry | X
T | Halogenated Solvent Cleaning | X
U | Group I Polymers and Resins | X
V | [Reserved] |
W | Epoxy Resins Production and Non-Nylon Polyamides Production | X
X | Secondary Lead Smelting | X
Y | Marine Tank Vessel Loading Operations | X
Z | [Reserved] |
AA | Phosphoric Acid Manufacturing Plants | X
BB | Phosphate Fertilizers Production Plants | X
CC | Petroleum Refineries | X
DD | Off-Site Waste and Recovery Operations | X
EE | Magnetic Tape Manufacturing Operations | X
FF | [Reserved] |
GG | Aerospace Manufacturing and Rework Facilities | X
HH | Oil and Natural Gas Production Facilities | X
II | Shipbuilding and Ship Repair (Surface Coating) | X
JJ | Wood Furniture Manufacturing Operations | X
KK | Printing and Publishing Industry | X
LL | Primary Aluminum Reduction Plants | X
MM | Chemical Recovery Combustion Sources at Kraft, Soda, Sulfite, and Stand-Alone Semichemical Pulp Mills | X
NN | Wool Fiberglass Manufacturing at Area Sources | X
OO | Tanks-Level 1 | X
PP | Containers | X
QQ | Surface Impoundments | X
RR | Individual Drain Systems | X
SS | Closed Vent Systems, Control Devices, Recovery Devices and Routing to a Fuel Gas System or a Process | X
TT | Equipment Leaks—Control Level 1 | X
UU | Equipment Leaks—Control Level 2 Standards | X
VV | Oil-Water Separators and Organic-Water Separators | X
WW | Storage Vessels (Tanks)—Control Level 2 | X
XX | Ethylene Manufacturing Process Units: Heat Exchange Systems and Waste Operations | X
YY | Generic Maximum Achievable Control Technology Standards | X
ZZ-BBB | [Reserved] |
CCC | Steel Pickling—HCl Process Facilities and Hydrochloric Acid Regeneration Plants | X
DDD | Mineral Wool Production | X
EEE | Hazardous Waste Combustors | X
FFF | [Reserved] |
GGG | Pharmaceuticals Production | X
HHH | Natural Gas Transmission and Storage Facilities | X
III | Flexible Polyurethane Foam Production | X
JJJ | Group IV Polymers and Resins | X
KKK | [Reserved] |
LLL | Portland Cement Manufacturing Industry | X
MMM | Pesticide Active Ingredient Production | X
NNN | Wool Fiberglass Manufacturing | X
OOO | Manufacture of Amino/Phenolic Resins | X
PPP | Polyether Polyols Production | X
QQQ | Primary Copper Smelting | X
RRR | Secondary Aluminum Production | X
SSS | [Reserved] |
TTT | Primary Lead Smelting | X
UUU | Petroleum Refineries: Catalytic Cracking Units, Catalytic Reforming Units, and Sulfur Recovery Plants | X
VVV | Publicly Owned Treatment Works | X
WWW | [Reserved] |
XXX | Ferroalloys Production: Ferromanganese and Silicomanganese | X
AAAA | Municipal Solid Waste Landfills | X
BBBB | [Reserved] |
CCCC | Manufacturing of Nutritional Yeast | X
DDDD | Plywood and Composite Wood Products | ² X
EEEE | Organic Liquids Distribution (Non-Gasoline) | X
FFFF | Miscellaneous Organic Chemical Manufacturing | X
GGGG | Solvent Extraction for Vegetable Oil Production | X
HHHH | Wet-Formed Fiberglass Mat Production | X
IIII | Surface Coating of Automobiles and Light-Duty Trucks | X
JJJJ | Paper and other Web Coating | X
KKKK | Surface Coating of Metal Cans | X
MMMM | Surface Coating of Miscellaneous Metal Parts and Products | X
NNNN | Surface Coating of Large Appliances | X
OOOO | Printing, Coating, and Dyeing of Fabrics and Other Textiles | X
PPPP | Surface Coating of Plastic Parts and Products | X
QQQQ | Surface Coating of Wood Building Products | X
RRRR | Surface Coating of Metal Furniture | X
SSSS | Surface Coating for Metal Coil | X
TTTT | Leather Finishing Operations | X
UUUU | Cellulose Products Manufacturing | X
VVVV | Boat Manufacturing | X
WWWW | Reinforced Plastic Composites Production | X
XXXX | Rubber Tire Manufacturing | X
YYYY | Stationary Combustion Turbines | X
ZZZZ | Stationary Reciprocating Internal Combustion Engines | X
AAAAA | Lime Manufacturing Plants | X
BBBBB | Semiconductor Manufacturing | X
CCCCC | Coke Ovens: Pushing, Quenching and Battery Stacks | X
DDDDD | Industrial, Commercial, and Institutional Boilers and Process Heaters | No
EEEEE | Iron and Steel Foundries | X
FFFFF | Integrated Iron and Steel Manufacturing Facilities | X
GGGGG | Site Remediation | X
HHHHH | Miscellaneous Coating Manufacturing | X
IIIII | Mercury Cell Chlor-Alkali Plants | X
JJJJJ | Brick and Structural Clay Products Manufacturing | X
KKKKK | Clay Ceramics Manufacturing | X
LLLLL | Asphalt Processing and Asphalt Roofing Manufacturing | X
MMMMM | Flexible Polyurethane Foam Fabrication Operation | X
NNNNN | Hydrochloric Acid Production | X
OOOOO | [Reserved] |
PPPPP | Engine Test Cells/Stands | X
QQQQQ | Friction Materials Manufacturing Facilities | X
RRRRR | Taconite Iron Ore Processing | X
SSSSS | Refractory Products Manufacturing | X
TTTTT | Primary Magnesium Refining | X
UUUUU | Coal and Oil-Fired Electric Utility Steam Generating Units | ³ X
VVVVV | [Reserved] |
WWWWW | Hospital Ethylene Oxide Sterilizers | X
XXXXX | [Reserved] |
YYYYY | Area Sources: Electric Arc Furnace Steelmaking Sources | X
ZZZZZ | Iron and Steel Foundries Area Sources | X
AAAAAA | [Reserved] |
BBBBBB | Gasoline Distribution Bulk Terminals, Bulk Plants, and Pipeline Facilities | X
CCCCCC | Gasoline Dispensing Facilities | X
DDDDDD | Polyvinyl Chloride and Copolymers Production Area Sources | X
EEEEEE | Primary Copper Smelting Area Sources | X
FFFFFF | Secondary Copper Smelting Area Sources | X
GGGGGG | Primary Nonferrous Metals Area Sources: Zinc, Cadmium, and Beryllium | X
HHHHHH | Paint Stripping and Miscellaneous Surface Coating Operations at Area Sources | X
IIIIII | [Reserved] |
JJJJJJ | Industrial, Commercial, and Institutional Boilers Area Sources | X
KKKKKK | [Reserved] |
LLLLLL | Acrylic and Modacrylic Fibers Production Area Sources | X
MMMMMM | Carbon Black Production Area Sources | X
NNNNNN | Chemical Manufacturing Area Sources: Chromium Compounds | X
OOOOOO | Flexible Polyurethane Foam Production and Fabrication Area Sources | X
PPPPPP | Lead Acid Battery Manufacturing Area Sources | X
QQQQQQ | Wood Preserving Area Sources | X
RRRRRR | Clay Ceramics Manufacturing Area Sources | X
SSSSSS | Glass Manufacturing Area Sources | X
TTTTTT | Secondary Nonferrous Metals Processing Area Sources | X
UUUUUU | [Reserved] |
VVVVVV | Chemical Manufacturing Area Sources | X
WWWWWW | Area Source Standards for Plating and Polishing Operations | X
XXXXXX | Area Source Standards for Nine Metal Fabrication and Finishing Source Categories | X
YYYYYY | Area Sources: Ferroalloys Production Facilities | X
ZZZZZZ | Area Source Standards for Aluminum, Copper, and Other Nonferrous Foundries | X
AAAAAAA | Area Sources: Asphalt Processing and Asphalt Roofing Manufacturing | X
BBBBBBB | Area Sources: Chemical Preparation Industry | X
CCCCCCC | Area Sources: Paints and Allied Products Manufacturing | X
DDDDDDD | Prepared Feeds Areas Sources | X
EEEEEEE | Gold Mine Ore Processing and Production Area Source Category | X
FFFFFFF-GGGGGGG | [Reserved] |
HHHHHHH | Polyvinyl Chloride and Copolymers Production Major Sources | X
Appendix A | Test Methods | X
Appendix B | Sources Defined by Rarely Reduction Provisions | X
Appendix C | Determination of the Fraction Biodegraded (Fbio) in a Biological Treatment Unit | X
Appendix D | Alternative Validation Procedure for EPA Waste and Wastewater Methods | X
Appendix E | Monitoring Procedure for Nonthoroughly Mixed Open Biological Treatment Systems at Kraft Pulp Mills Under Unsafe Sampling Conditions | X
¹ Authorities which may not be delegated include: § 63.6(g), Approval of Alternative Non-Opacity Emission Standards; § 63.6(h)(9), Approval of Alternative Opacity Standards; § 63.7(e)(2)(ii) and (f), Approval of Major Alternatives to Test Methods; § 63.8(f), Approval of Major Alternatives to Monitoring; § 63.10(f), Approval of Major Alternatives to Recordkeeping and Reporting; and all authorities identified in the subparts (e.g., under “Delegation of Authority”) that cannot be delegated.
² This subpart was issued a partial vacatur by the United States Court of Appeals for the District of Columbia Circuit. See 72 FR 61060 (October 29, 2007).
³ Final Rule. See 77 FR 9304 (February 16, 2012), as amended 81 FR20172 (April 6, 2016) Final Supplemental Finding that it is appropriate and necessary to regulate HAP emissions from Coal- and Oil-fired EUSGU Units. See 81 FR 24420 (April 25, 2016).

* * * * *

[FR Doc. 2025-23284 Filed 12-17-25; 8:45 am]

BILLING CODE 6560-50-P